DEPARTMENT OF COMMERCE

National Oceanic and Atmospheric Administration

RIN 0648-XB152

Endangered Species; File No. 16645

AGENCY: National Marine Fisheries Service (NMFS), National Oceanic and Atmospheric Administration (NOAA), Commerce.

ACTION: Issuance of permit.

SUMMARY: Notice is hereby given that the Georgia Department of Natural Resources (GA DNR) has been issued a permit for the incidental take of shortnose (Acipenser brevirostrum) and Atlantic sturgeon (A. oxyrinchus) associated with the otherwise lawful commercial shad fishery in Georgia.

ADDRESSES: The permit and related documents are available for review upon written request or by appointment in the following office:

Endangered Species Conservation Division, Office of Protected Resources, NMFS, 1315 East-West Highway, Room 13626, Silver Spring, MD 20910; phone (301) 427-8403; fax (301) 713-4060.

FOR FURTHER INFORMATION CONTACT: Kristy Beard or Angela Somma, (301) 427-8403.

SUPPLEMENTARY INFORMATION: On April 11, 2012, notice was published in the Federal Register (77 FR 21751) that a request for a permit for the incidental take of shortnose and Atlantic sturgeon associated with the otherwise lawful commercial shad fishery in Georgia had been submitted by GA DNR. The requested permit has been issued under the authority of the Endangered Species Act of 1973, as amended (ESA; 16 U.S.C. 1531 et seq.) and the regulations governing the taking, importing, and exporting of endangered and threatened species (50 CFR parts 222-226).

The permit authorizes take of ESA-listed shortnose and Atlantic sturgeon that are caught incidental to the Georgia commercial shad fishery. Incidental capture by fisherman will not exceed 140 shortnose sturgeon per year (no more than 420 in a 3-year period) and 140 Atlantic sturgeon per year (no more than 420 in a 3-year period) in the Altamaha River, 70 shortnose sturgeon per year (no more than 210 in a 3-year period) and 35 Atlantic sturgeon per year (no more than 110 in a 3-year period) in the Savannah River, and 5 shortnose sturgeon per year (no more than 20 in a 3-year period) and 5 Atlantic sturgeon per year (no more than 20 in a 3-year period) in the Ogeechee River. Mortalities of incidentally captured sturgeon will not exceed 3 shortnose sturgeon per year or 8 per 3-year period and 3 Atlantic sturgeon per year or 5 per 3-year period in the Altamaha River, 2 shortnose sturgeon per year or 6 per 3-year period and 1 Atlantic sturgeon per year or 1 per 3-year period in the Savannah River, and 1 shortnose sturgeon per year or 1 per 3-year period and 1 Atlantic sturgeon per year or 1 per 3-year period in the Ogeechee River. The State of Georgia has amended its commercial fishing regulations for the Georgia commercial shad fishery to minimize the incidental capture of ESA-listed shortnose sturgeon and the South Atlantic, Carolina, Chesapeake Bay, New York Bight, and Gulf of Maine DPSs of Atlantic sturgeon. The new regulations restrict fishing to the lower portions of the Savannah, Ogeechee, and Altamaha Rivers and close the fishery in the Satilla and St. Mary's River. The Georgia shad fishery is open from January 1 to as late as April 30 each year, but would typically end March 31. In addition, GA DNR will implement measures described in the conservation plan that accompanies the permit to minimize, monitor, and mitigate the incidental take of ESA-listed sturgeon. The conservation plan includes continued implementation of Georgia's amended commercial fishing regulations for the Georgia shad fishery, which are expected to minimize the bycatch of sturgeon by closing to shad fishing sections of the rivers that previously had the highest bycatch rates. These closures would also protect known and suspected sturgeon spawning sites. Georgia regulations require that sturgeon captured in shad nets be released unharmed into the waters from which they were taken. In addition to sturgeon incidentally captured by fisherman, GA DNR is also expected to incidentally capture sturgeon during monitoring of the shad run. GA DNR will set drift nets in the Altamaha River during the fishing season to monitor the shad run and approximate the rate of incidentally captured shortnose and Atlantic sturgeon. Up to 10 shortnose and 10 Atlantic sturgeon will be captured during annual monitoring activities in the Altamaha River, with no more than 50 shortnose sturgeon and 50 Atlantic sturgeon captured during any three consecutive years. No mortalities are anticipated. GA DNR will insert passive integrated transponder (PIT) tags and collect genetic samples from Atlantic sturgeon incidentally captured during monitoring in order to better determine what DPSs of Atlantic sturgeon are being captured in the fishery.

Issuance of this permit, as required by the ESA, was based on a finding that such permit (1) was applied for in good faith, (2) will not operate to the disadvantage of such endangered or threatened species, and (3) is consistent with the purposes and policies set forth in section 2 of the ESA.

Dated: January 9, 2013.
Angela Somma,
Chief, Endangered Species Conservation Division, Office of Protected Resources, National Marine Fisheries Service.

[FR Doc. 2013-00553 Filed 1-11-13; 8:45 am]

BILLING CODE 3510-22-P